DEPARTMENT OF COMMERCE

International Trade Administration

[A-602-808]

Silicomanganese From Australia: Preliminary Affirmative Determination of Sales at Less Than Fair Value and Postponement of Final Determination

AGENCY: Enforcement and Compliance, International Trade Administration, Department of Commerce.

SUMMARY: The Department of Commerce (“Department”) preliminarily determines that silicomanganese from Australia is being, or is likely to be, sold in the United States at less than fair value (“LTFV”), as provided in section 733(b) of the Tariff Act of 1930, as amended (the “Act”). The period of investigation is January 1, 2014 through December 31, 2014. The estimated weighted-average dumping margins are shown in the “Preliminary Determination” section of this notice. Interested parties are invited to comment on this preliminary determination.

DATES: Effective Date: September 25, 2015.

FOR FURTHER INFORMATION CONTACT: Magd Zalok or Robert Bolling, AD/CVD Operations, Office IV, Enforcement and Compliance, International Trade Administration, U.S. Department of Commerce, 14th Street and Constitution Avenue NW., Washington, DC 20230; telephone: (202) 482-4162 or (202) 482-3434, respectively.

SUPPLEMENTARY INFORMATION:

Background

The Department published the notice of initiation of this investigation on March 17, 2015.¹ Pursuant to section 733(c)(1)(A) of the Act, the Department postponed this preliminary LTFV determination by a period of 50 days.²

¹ See Silicomanganese From Australia: Initiation of Less-Than-Fair-Value Investigation, 80 FR 13829 (March 17, 2015).

² See Silicomanganese From Australia: Postponement of Preliminary Determination of Antidumping Duty Investigation, 80 FR 35304 (June 19, 2015).

Scope of the Investigation

The scope of this investigation covers all forms, sizes and compositions of silicomanganese, except low-carbon silicomanganese, including silicomanganese briquettes, fines, and slag. Silicomanganese is properly classifiable under subheading 7202.30.0000 of the Harmonized Tariff Schedule of the United States (“HTSUS”). Low-carbon silicomanganese is excluded from the scope of this investigation. Low-carbon silicomanganese is classifiable under HTSUS subheading 7202.30.0000. The HTSUS subheadings are provided for convenience and customs purposes. The written description of the scope is dispositive. A full description of the scope of the investigation is contained in the Preliminary Decision Memorandum. The Preliminary Decision Memorandum is a public document and is made available to the public via Enforcement and Compliance's Antidumping and Countervailing Duty Centralized Electronic Service System (“ACCESS”). ACCESS is available to registered users at https://access.trade.gov, and is available to all parties in the Department's Central Records Unit, located at room B8024 of the main Department of Commerce building. In addition, a complete version of the Preliminary Decision Memorandum³ can be found at http://enforcement.trade.gov/frn/. The signed and the electronic versions of the Preliminary Decision Memorandum are identical in content.

³ See Memorandum to Ronald K. Lorentzen, “Decision Memorandum for the Preliminary Determination in the Antidumping Duty Investigation of Silicomanganese from Australia,” dated concurrently with this notice. A list of the topics discussed in the Preliminary Decision Memorandum appears in Appendix I, below.

Methodology

The Department is conducting this investigation in accordance with section 731 of the Act. For a full description of the methodology underlying our conclusions, see the Preliminary Decision Memorandum.

All Others Rate

Section 735(c)(5)(A) of the Act provides that the estimated “all others” rate shall be an amount equal to the weighted average of the estimated weighted-average dumping margins established for exporters and producers individually investigated, excluding any zero or de minimis margins, and any margins determined entirely under section 776 of the Act. Pursuant to section 735(c)(5)(B) of the Act, if the estimated weighted-average dumping margins established for all exporters and producers individually examined are zero, de minimis, or determined based entirely under section 776 of the Act, the Department may use any reasonable method to establish the estimated dumping margin for all other producers or exporters.

We based our calculation of the “All Others” rate on the margin calculated for Tasmanian Electro Metallurgical Company Pty Ltd. (“TEMCO”), the only mandatory respondent in this investigation.

Preliminary Determination

The Department preliminarily determines that the following weighted-average dumping margins exist:

Producer or exporter | Weighted-average dumping margin (percent)
Tasmanian Electro Metallurgical Company Pty Ltd | 11.93
All Others | 11.93

Disclosure and Public Comment

We will disclose the calculations performed within five days of any public announcement of this notice in accordance with 19 CFR 351.224(b). Case briefs or other written comments may be submitted to the Assistant Secretary for Enforcement and Compliance no later than seven days after the date on which the final verification report is issued in this proceeding. Rebuttal briefs, limited to issues raised in case briefs, may be submitted no later than five days after the deadline date for case briefs.⁴ Pursuant to 19 CFR 351.309(c)(2) and (d)(2), parties who submit case briefs or rebuttal briefs in this proceeding are encouraged to submit with each argument: (1) A statement of the issue; (2) a brief summary of the argument; and (3) a table of authorities.

⁴ See 19 CFR 351.309.

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 14th Street and Constitution Avenue NW., Washington, DC 20230, at a date and time to be determined. See 19 CFR 351.310(d). Parties should confirm by telephone the date, time, and location of the hearing two days before the scheduled date.

Postponement of Final Determination and Extension of Provisional Measures

We received a request from the mandatory respondent, TEMCO, that we postpone the final determination and extend the application of the provisional measures prescribed under section 733(d) of the Act and 19 CFR 351.210(e)(2), from a four-month period to a six-month period. Accordingly, we are postponing our final determination no later than 135 days after the date of publication of this preliminary determination, pursuant to section 735(a)(2) of the Act.⁵ The suspension of liquidation described below will be extended accordingly.⁶

⁵ See 19 CFR 351.210(b)(2) and (e); See also See Letter from TEMCO, “Silicomanganese from Australia: Request for Postponement of Final Determination,” dated September 8, 2015.

⁶ Id.

Suspension of Liquidation

In accordance with section 733(d)(2) of the Act, we are directing U.S. Customs and Border Protection (“CBP”) to suspend liquidation of all entries of silicomanganese from Australia as described in the scope of the investigation section entered, or withdrawn from warehouse, for consumption on or after the date of publication of this notice in the Federal Register.

Pursuant to section 733(d)(1)(B) of the Act and 19 CFR 351.205(d), we will instruct CBP to require a cash deposit equal to the weighted-average amount by which the NV exceeds CEP as indicated in the chart above.⁷ These suspension of liquidation instructions will remain in effect until further notice.

⁷ See Modification of Regulations Regarding the Practice of Accepting Bonds During the Provisional Measures Period in Antidumping and Countervailing Duty Investigations, 76 FR 61042 (October 3, 2011).

International Trade Commission (“ITC”) Notification

In accordance with section 733(f) of the Act, we will notify the ITC of our preliminary affirmative determination of sales at LTFV. Because the preliminary determination in this proceeding is affirmative, section 735(b)(2) of the Act requires that the ITC make its final determination as to whether the domestic industry in the United States is materially injured, or threatened with material injury, by reason of imports of silicomanganese from Australia before the later of 120 days after the date of this preliminary determination or 45 days after our final determination. Because we are postponing the deadline for our final determination to 135 days from the date of publication of this preliminary determination, as discussed above, the ITC will make its final determination no later than 45 days after our final determination.

This determination is issued and published in accordance with sections 733(f) and 777(i)(1) of the Act and 19 CFR 351.205(c).

Dated: September 17, 2015.
Ronald K. Lorentzen,
Acting Assistant Secretary for Enforcement and Compliance.

Appendix I—List of Topics Discussed in the Preliminary Decision Memorandum

1. Summary

2. Background

3. Period of Investigation

4. Postponement of Preliminary Determination

5. Postponement of Final Determination and Extension of Provisional Measures

6. Scope of the Investigation

7. Scope Comments

8. Discussion of Methodology

Fair Value Comparisons

A. Determination of Comparison Method

B. Results of the Differential Pricing Analysis

9. Product Comparisons

10. Date of Sale

11. Constructed Export Price

12. Normal Value

A. Comparison Market Viability

B. Affiliated Party Transactions and Arm's-Length Test

C. Level of Trade

D. Cost of Production (COP)

a. Calculation of COP

b. Test of Comparison Market Sales Prices

c. Results of the COP Test

E. Calculation of Normal Value Based on Comparison Market Prices

F. Calculation of Normal Value Based on CV

13. Currency Conversion

14. U.S. International Trade Commission Notification

15. Disclosure and Public Comments

16. Verification

17. Conclusion

[FR Doc. 2015-24449 Filed 9-24-15; 8:45 am]

BILLING CODE 3510-DS-P